NUCLEAR REGULATORY COMMISSION

[Docket Nos.: 50-282, 50-306 and 72-10; NRC-2014-0236]

Northern States Power Company; Prairie Island Nuclear Generating Plant; Independent Spent Fuel Storage Installation

AGENCY: Nuclear Regulatory Commission.

ACTION: Environmental assessment and finding of no significant impact; issuance.

SUMMARY: The U.S. Nuclear Regulatory Commission (NRC) is considering issuance of an exemption for special nuclear materials (SNM) license number SNM-2506 issued initially in July 1993 and held by Northern States Power Company, a Minnesota corporation (NSPM or the licensee) doing business as Xcel Energy, for the operation of the Prairie Island Nuclear Generating Plant (PINGP) independent spent fuel storage installation (ISFSI).

ADDRESSES: Please refer to Docket ID NRC-2014-0236 when contacting the NRC about the availability of information regarding this document. You may obtain publicly-available information related to this document using any of the following methods:

• Federal Rulemaking Web site: Go to http://www.regulations.gov and search for Docket ID NRC-2014-0236. Address questions about NRC dockets to Carol Gallagher; telephone: 301-287-3422; email: Carol.Gallagher@nrc.gov.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The request for exemption dated July 11, 2013, is available under ADAMS accession no. ML13193A088.

• NRC's PDR: You may examine and purchase copies of public documents at the NRC's PDR, Room O1-F21, One White Flint North, 11555 Rockville Pike, Rockville, Maryland 20852.

FOR FURTHER INFORMATION CONTACT: Pamela Longmire, Ph.D., Office of Nuclear Material Safety and Safeguards, U.S. Nuclear Regulatory Commission, Washington, DC 20555-0001; telephone: 301-287-0829; email: Pamela.Longmire@nrc.gov.

SUPPLEMENTARY INFORMATION:

I. Introduction

The NRC is considering issuance of an exemption for license number SNM-2506 held by NSPM pursuant to section 73.5 of Title 10 of the Code of Federal Regulations (10 CFR), “Specific exemptions,” from specific portions of the requirements of 10 CFR 73.51, “Requirements for the physical protection of stored spent nuclear fuel and high-level radioactive waste,” for the Prairie Island Independent Spent Fuel Storage Installation (ISFSI). Based on the results of the EA that follows, the NRC has determined not to prepare an environmental impact statement for the exemption, and is issuing a finding on no significant impact.

II. Environmental Assessment

Background

The licensee possesses a specific license under 10 CFR Part 72, for the storage of spent fuel in an ISFSI. The licensee is subject to 10 CFR 73.51(d)(3), which provides in part that “[t]he perimeter of the protected area must be subject to continual surveillance and be protected by an active intrusion alarm system which is capable of detecting penetrations through the isolation zone and that is monitored in a continually staffed primary alarm station and in one additional continually staffed location. The primary alarm station must be located within the protected area; have bullet-resisting walls, doors, ceiling and floor; and the interior of the station must not be visible from outside the protected area. A timely means for assessment of alarms must also be provided. Regarding alarm monitoring, the redundant location need only provide a summary indication that an alarm has been generated.”

Description of the Proposed Action

In a letter dated May 16, 2013 (ADAMS accession no. ML13140A105), NSPM requests an exemption from the requirement in 10 CFR 73.51(d)(3). The proposed exemption request pertains to the location of the primary alarm station. In the preparation of this EA, the staff used guidance in NUREG-1748, “Environmental Review Guidance for Licensing Actions Associated with NMSS Programs” (ADAMS accession no. ML032450279).

Need for the Proposed Action

NSPM seeks relief from a provision of 10 CFR 73.51(d)(3) with regard to the location of the primary alarm station. NSPM maintains that the proposed exemption facilitates effective security activities at both the Prairie Island power station and the ISFSI, in that the exemption would provide uniformity and consistency in managing security at the collocated sites.

Environmental Impacts of the Proposed Action

The NRC staff evaluated the exemption request in greater detail in its safety evaluation report (SER). The SER is withheld from public disclosure in accordance with 10 CFR 2.390 because it contains security information.

The NRC has determined that issuance of the proposed exemption will have no significant environmental impact. Additionally, the NRC has concluded that the Prairie Island physical security plan, should the Commission issue the requested exemption, will continue to provide high assurance that activities involving spent nuclear fuel and high-level radioactive waste do not constitute an unreasonable risk to public health and safety, pursuant to 10 CFR 73.51(b)(1).

The proposed action will not have any environmental impact. It will not increase the probability or consequences of accidents. No changes are being made in the types or quantities of effluents that may be released offsite, and there is no significant increase in occupational or public radiation exposure. Therefore, there are no significant radiological environmental impacts associated with the proposed action. The proposed action does not affect non-radiological effluents and has no other environmental impacts. Thus, there are no significant non-radiological impacts associated with the proposed action. Therefore, the proposed action will not have a significant effect on the quality of the human environment. Based on these findings, the NRC concludes that there are no significant environmental impacts associated with the approval of the requested exemption.

Alternative to the Proposed Action

Since there are no significant environmental impacts associated with the proposed action, any alternatives with equal or greater environmental impact are not evaluated. The alternative to the proposed action would be to deny approval of the exemption. This alternative would have the same environmental impacts.

Agencies and Persons Consulted

A draft of this EA was sent by email dated April 3, 2014, to both Ms. Aggie Leitheiser, Assistant Commissioner of the Minnesota Department of Health (MDH) (ADAMS accession no. ML14100A328) and Mr. Ron Johnson, President of Tribal Council for the Prairie Island Indian Community (PIIC) (ADAMS accession no. ML14100A354). The MDH response was received by email dated April 7, 2014 (ADAMS accession No. ML14100A098). The email response states that MDH reviewed the draft EA and had no comments. The PIIC response with comments was received by email on April 11, 2014 (ADAMS accession No. ML14154A335). Following revisions to the draft EA, it was reissued to MDH and PIIC for comment.

By email dated July 25, 2014, the revised EA was sent to Ms. Aggie Leitheiser at MDH and Mr. Philip Mahowald, General Counsel for the PIIC. The MDH response was received by email dated August 11, 2014 (ADAMS accession no. ML14266A174). The email response states that MDH reviewed the draft EA and had no comments. The PIIC's email response was received by email dated September 4, 2014 (ADAMS accession no. ML14251A373). The email response states that PIIC reviewed the draft EA and had no comments.

The NRC staff has determined that a consultation under Section 7 of the Endangered Species Act is not required because the proposed action will not affect listed species or critical habitat. The NRC staff has also determined that the proposed action is not a type of activity that has the potential to impact historic properties because the proposed action would occur within the established Prairie Island site boundary. Therefore, no consultation is required under Section 106 of the National Historic Preservation Act.

III. Finding of No Significant Impact

The environmental impacts of the proposed action have been reviewed in accordance with the requirements set forth in 10 CFR Part 51. Based upon this environmental assessment, the NRC finds that the proposed action, issuance of an exemption from specific physical security requirements in 10 CFR 73.51(d)(3), as further discussed in the safety evaluation, will not significantly impact the quality of the human environment. Accordingly, preparation of an environmental impact statement for the proposed exemption is not warranted, and a finding of no significant impact is appropriate.

Dated at Rockville, Maryland, this 16th day of October, 2014.
For the Nuclear Regulatory Commission.
Michele Sampson,
Chief, Spent Fuel Licensing Branch, Division of Spent Fuel Management, Office of Nuclear Material Safety and Safeguards.

[FR Doc. 2014-25356 Filed 10-23-14; 8:45 am]

BILLING CODE 7590-01-P